DEPARTMENT OF HEALTH AND HUMAN SERVICES

National Institutes of Health

Notice of Meeting; Interagency Autism Coordinating Committee

The National Institutes of Health (NIH) hereby announces a meeting of the Interagency Autism Coordinating Committee to be held on November 18, 2005, on the NIH campus in Bethesda, Maryland.

The Children's Health Act of 2000 (Pub. L. 106-310), Title I, Section 104, mandated the establishment of an Interagency Autism Coordinating Committee (IACC) to coordinate autism research and other efforts within the Department of Health and Human Services (HHS). In April 2001, the HHS Secretary delegated the authority to establish the IACC to the NIH. The National Institute of Mental Health (NIMH) at the NIH has been designated the lead for this activity.

The IACC meeting will be open to the public, with attendance limited to space available. Individuals who plan to attend and need special assistance, such as sign language interpretation or other reasonable accommodations, should notify the contact person listed below in advance of the meeting.

Name of Committee: Interagency Autism Coordinating Committee.

Date: November 18, 2005.

Time: 9 a.m.-4:30 p.m.

Agenda: Discussion of autism activities across Federal agencies.

Place: National Institutes of Health, 31 Center Drive, Building 31, Conference Room 10 (6th floor), Bethesda, Maryland 20892.

Contact Person: Ann Wagner, Ph.D., Division of Services and Intervention Research, National Institute of Mental Health, NIH, 6001 Executive Boulevard, Room 6184, MSC 9617, Bethesda, Maryland 20892, E-mail: awagner@mail.nih.gov, Phone: (301) 443-5944.

Any member of the public interested in presenting oral comments to the Committee may notify the contact person listed on this notice at least 5 days in advance of the meeting. Interested individuals and representatives of organizations may submit a letter of intent, a brief description of the organization represented, and a short description of the oral presentation. Presentations may be limited to 5 minutes; both printed and electronic copies are requested for the record. In addition, any interested person may file written comments with the Committee by forwarding his/her statement to the contact person listed on this notice. The statement should include the name, address, telephone number, and, when applicable, the business or professional affiliation of the interested person.

Information about the meeting and online registration forms are also available online on the NIMH homepage at http://www.nimh.nih.gov/autismiacc/index.cfm.

Dated: September 21, 2005.
Raynard S. Kington,
Deputy Director, National Institutes of Health.

[FR Doc. 05-19377 Filed 9-27-05; 8:45 am]

BILLING CODE 4140-01-P